DEPARTMENT OF THE TREASURY

Internal Revenue Service

26 CFR Part 1

Unified Rule for Loss on Subsidiary Stock

CFR Correction

In Title 26 of the Code of Federal Regulations, Part 1 (§§ 1.1401 to 1.1550), revised as of April 1, 2012, on page 505, in § 1.1502-36, at the end of paragraph (d)(8) Example 6 (ii)(D)(3), reinstate the following sentence:

§ 1.1502-36 Unified loss rule.

* * * * *

(d) * * *

(8) * * *

Example 6. * * *

(ii) * * *

(D) * * *

(3) * * * Under the general rules of this paragraph (d), S1's $60 tier-down attribute reduction amount is allocated and applied to reduce S1's basis in its asset from $500 to $440.

* * * * *

[FR Doc. 2013-07100 Filed 3-25-13; 8:45 am]

BILLING CODE 1505-01-D